DEPARTMENT OF HEALTH AND HUMAN SERVICES

Health Resources and Services Administration

National Advisory Committee on Rural Health and Human Services; Notice of Meeting

In accordance with section 10(a)(2) of the Federal Advisory Committee Act (Public Law 92-463), notice is hereby given that the following committee will convene its forty-seventh meeting.

Name: National Advisory Committee on Rural Health and Human Services.

Dates and Times: June 6, 2004, 2 p.m.-4:30 p.m.; June 7, 2004, 8:30 a.m.-4:30 p.m.; June 8, 2004, 8:30 a.m.-10:30 a.m.

Place: Arbor Day Farm Lied Lodge and Conference Center, 2700 Sylvan Road, Nebraska City, NE 68410, Phone: 402-873-8733, Fax: 402-873-4999.

Status: The meeting will be open to the public.

Purpose: The National Advisory Committee on Rural Health and Human Services provides advice and recommendations to the Secretary with respect to the delivery, research, development and administration of health and human services in rural areas.

Agenda: Sunday afternoon, June 6, 2004, at 2 p.m., the Chairperson, the Honorable David Beasley, will open the meeting and welcome the Committee. The first session will open with a discussion of the Committee business and updates by Federal staff. This will be followed by an overview of Nebraska by Committee Member Keith Mueller and a discussion of Health Care in Nebraska by Sandy Johnson, Executive Director of the State Medical Association. The final two sessions of the day will consist of a panel discussion on obstetrics and obesity in Nebraska and a dialogue on human services in Nebraska. The Sunday meeting will close at 4:30 p.m.

Monday morning, June 7, 2004, at 8:30 a.m. the Committee will break into Subcommittees and conduct site visits to local health and human services facilities. Transportation to these facilities will not be provided to the public. The Integrated Programs Subcommittee will visit Crete, NE; the Temporary Assistance for Needy Families Subcommittee will visit Beatrice, NE; the Obesity Subcommittee will visit Syracuse, NE; and the Obstetrics Subcommittee will visit Tecumseh, NE. The Committee will conduct a joint site visit in Fairbury, NE. The Committee will reconvene at 2:15 p.m. in Nebraska City, NE, for an overview of the site visits. The Committee will break into Subcommittees to work on the 2005 report. The Monday meeting will adjourn at 4:30 p.m.

The final session will be convened Tuesday morning, June 8, 2004, at 8:30 a.m. The Committee will summarize the Subcommittees discussions and draft an outline for the annual report. The meeting will conclude with a discussion of the letter to the Secretary. The meeting will be adjourned at 10:30 a.m.

For Further Information Contact: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, HRSA's Office of Rural Health Policy (ORHP), telephone (301) 443-0835. The Committee meeting agenda will be posted on ORHP's Web site http://www.ruralhealth.hrsa.gov.

Dated: May 7, 2004.
Tina M. Cheatham,
Director, Division of Policy Review and Coordination.

[FR Doc. 04-10977 Filed 5-13-04; 8:45 am]

BILLING CODE 4165-15-P